DEPARTMENT OF HEALTH AND HUMAN SERVICES

National Institutes of Health

National Cancer Institute; Amended Notice of Meeting

Notice is hereby given of a change in the meeting of the Subcommittee J—Career Development, November 1, 2012, 7:30 a.m. to November 2, 2012, 12:00 p.m., Hilton Alexandria Old Town, 1767 King Street, Alexandria, VA 22314 which was published in the Federal Register on September 11, 2012, 77 FR 55854.

This notice is being amended to change the ending time and date from 12 p.m. November 2, 2012 to 6 p.m. November 1, 2012. The meeting is closed to the public.

Dated: September 24, 2012.
Melanie J. Gray,
Program Analyst, Office of Federal Advisory Committee Policy.

[FR Doc. 2012-24011 Filed 9-28-12; 8:45 am]

BILLING CODE 4140-01-P